DEPARTMENT OF THE INTERIOR

Bureau of Reclamation

[RR04073000, XXXR4081X3, RX.05940913.7000000]

Glen Canyon Dam Adaptive Management Work Group Notice of Public Meeting

AGENCY: Bureau of Reclamation, Interior.

ACTION: Notice.

SUMMARY: The Glen Canyon Dam Adaptive Management Work Group (AMWG) makes recommendations to the Secretary of the Interior concerning Glen Canyon Dam operations and other management actions to protect resources downstream of Glen Canyon Dam consistent with the Grand Canyon Protection Act. The AMWG meets two to three times a year.

DATES: The May 25, 2016, AMWG WebEx/conference call will begin at 11:00 a.m. (EDT), 9:00 a.m. (MDT), and 8:00 a.m. (PDT) and conclude three (3) hours in the respective time zones. See call-in information in the SUPPLEMENTARY INFORMATION section.

FOR FURTHER INFORMATION CONTACT: Ms. Katrina Grantz, Bureau of Reclamation, telephone (801) 524-3635; facsimile (801) 524-3807; email at kgrantz@usbr.gov.

SUPPLEMENTARY INFORMATION: The Glen Canyon Dam Adaptive Management Program (AMP) was implemented as a result of the Record of Decision on the Operation of Glen Canyon Dam Final Environmental Impact Statement to comply with consultation requirements of the Grand Canyon Protection Act (Pub. L. 102-575) of 1992. The AMP includes a Federal advisory committee, the AMWG, a technical work group, a Grand Canyon Monitoring and Research Center, and independent review panels. The technical work group is a subcommittee of the AMWG and provides technical advice and recommendations to the AMWG.

Agenda: The primary purpose of the meeting will be for the AMWG to discuss the Glen Canyon Dam Adaptive Management Budget and Workplan for Fiscal Year 2017 and the 2017 hydrograph. There will also be updates on: (1) The Long-Term Experimental and Management Plan Environmental Impact Statement, and (2) current basin hydrology. The AMWG will discuss other administrative and resource issues pertaining to the GCDAMP. To participate in the WebEx/conference call, please use the following instructions:

1. Go to: This will need to be changed if the date/time changes https://ucbor-events.webex.com/ucbor-events/onstage/g.php?MTID=e41d62843c7f459f40c6daf75840d7a01.

2. If requested, enter your name and email address.

3. If a password is required, enter the meeting password: AMWG.

4. Click “Join Now”.

Audio Conference Information:

• Phone Number: (877) 913-4721

• Passcode: 3330168

• Event Number: 994 578 626

There will be limited ports available, so if you wish to participate, please contact Linda Whetton at (801) 524-3880 to register.

To view a copy of the agenda and documents related to the above meeting, please visit Reclamation's Web site at: http://www.usbr.gov/uc/rm/amp/amwg/mtgs/16may25/index.html. Time will be allowed for any individual or organization wishing to make formal oral comments on the call. To allow for full consideration of information by the AMWG members, written notice must be provided to Katrina Grantz, Bureau of Reclamation, Upper Colorado Regional Office, 125 South State Street, Room 8100, Salt Lake City, Utah, 84138; telephone (801) 524-3635; facsimile (801) 524-3807; email at kgrantz@usbr.gov, at least five (5) days prior to the call. Any written comments received will be provided to the AMWG members.

Public Disclosure of Comments

Before including your address, phone number, email address, or other personal identifying information in your comment, you should be aware that your entire comment—including your personal identifying information—may be made publicly available at any time. While you can ask us in your comment to withhold your personal identifying information from public review, we cannot guarantee that we will be able to do so.

Dated: March 24, 2016.
Katrina Grantz,
Chief, Adaptive Management Group, Manager, Environmental Resources Division, Upper Colorado Regional Office.

[FR Doc. 2016-09234 Filed 4-20-16; 8:45 am]

BILLING CODE 4332-90-P